FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—01/14/2008
20080479 | Amazon.com, Inc | Bill Me Later, Inc | Bill Me Later, Inc.
20080494 | Duke Energy Corporation | Saluda River Electric Cooperative, Inc | Saluda River Electric Cooperative, Inc.
20080569 | CML Healthcare Income Fund | ARS Holding, Inc | ARS Holding Inc.
Transactions Granted Early Termination—01/15/2008
20080462 | Ms. Esther Koplowitz Romero de Juseu | Siemens Aktiengesellschaft | Hydrocarbon Recovery Services, Inc., International Petroleum Corp. of Delaware.
20080469 | Teradyne, Inc | Nextest Systems Corporation | Nextest Systems Corporation.
20080522 | Providence Equity Partners IV L.P | William L. Adamany | AGT Enterprises, Inc., Star-Iowa, LLC.
Transactions Granted Early Termination—01/16/2008
20080470 | Eisai Co., Ltd | MGI Pharma, Inc | MGI Pharma, Inc.
Transactions Granted Early Termination—01/17/2008
20080495 | KASLION S.a.r.L | Atlantic Bridge Ventures Holdings Limited | GloNav Inc.
20080519 | Apollo Investment Fund VI, L.P | GA Industries, Inc | GA Industries, Inc.
20080586 | Pfizer Inc | The Biotech Settlement | CovX Research LLC, CovX Technologies Ireland Limited.
Transactions Granted Early Termination—01/18/2008
20080537 | Financiere Asteel S.A | Flash Electronics International | Flash Electronics Holding.
20080564 | Eli Lilly and Company | BioMS Medical Corp | BioMS Medical Corp.
20080587 | Alfa Mutual Insurance Company | Alfa Corporation | Alfa Corporation.
20080588 | Alfa Mutual Fire Insurance Company | Alfa Corporation | Alfa Corporation.
20080590 | Long Point Capital Fund, II, L.P | Avadhesh and Umarani Agarwal | UMA Enterprises, Inc.
20080598 | Gryphon Partners III, L.P | Accelerated Health Systems, LLC | Accelerated Health Systems, LLC.
20080606 | Lake Capital Partners II LP | Gary L. Fish | FishNet Security Holdings, Inc.
20080608 | Epicor Software Corporation | NSB Retail Systems PLC | NSB Retail Systems PLC.
Transactions Granted Early Termination—01/22/2008
20080522 | JANA Offshore Partners, Ltd | CNET Networks, Inc | CNET Networks, Inc.
20080563 | WuXi PharmaTech (Cayman) Inc | AppTec Laboratory Services, Inc | AppTec Laboratory Services, Inc.
20080568 | BlueScope Steel Ltd | San Faustin N.V | Imsa Steel Corp.
20080591 | IFM Infrastructure Funds | Consolidated Edison, Inc | CED Generation Holding Company, LLC, CED Rock Springs, LLC, Consolidated Edison Energy, Massachusetts, LLC, Newington Energy, LLC, Ocean Peaking Power, LLC.
20080595 | Murat Ulker | Campbell Soup Company | Godiva Chocolatier, Inc.
20080597 | Oak Hill Capital Partners III, L.P | News Corporation | Fox Television Stations, Inc., New world Communications of Kansas City, Inc.
20080602 | Oracle Healthcare Acquisition Corp | Precision Therapeutics, Inc | Precision Therapeutics, Inc.
20080611 | Linn Energy, LLC | Gary W. and Constance S. Lewis | Lamamco Drilling Company.
20080612 | Linn Energy, LLC | Stanley and Sabrina L. Miller | Lamamco Drilling Company.
Transactions Granted Early Termination—01/23/2008
20080609 | Intuit Inc | Electronic Clearing House, Inc | Electronic Clearing House, Inc.
Transactions Granted Early Termination—01/24/2008
20080576 | American Securities Partners IV, L.P | Horizon Global Technology, Inc | Horizon Global Technology, Inc.
20080578 | MHR Institutional Partners III LP | Leap Wireless International, Inc | Leap Wireless International, Inc.
20080582 | Owl Creek Overseas Fund, Ltd | Leap Wireless International, Inc | Leap Wireless International, Inc.
20080600 | Jose Maria Rubiralta | Inova Diagnostics, Inc | Inova Diagnostics, Inc.
20080603 | Quik-Way Retail Associates Holdings II, Ltd | Royal Dutch Shell plc | Motiva Enterprises LLC.
20080604 | Quik-Way Retail Associates Holdings II, Ltd | Aramco Services Company | Motiva Enterprises LLC.
20080625 | Rock-Tenn Company | Steven Grossman | Southern Container Corporation.
Transactions Granted Early Termination—01/25/2008
20080571 | Leucadia National Corporation | AmeriCredit Corp | AmeriCredit Corp.
20080580 | Brush Engineered Materials, Inc | Techni-Met, Inc | Techni-Met, Inc.
20080607 | U.S. Bancorp | Gary M. Eng | Southern DataComm, Inc.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. 08-524 Filed 2-7-08; 8:45 am]

BILLING CODE 6750-01-M